DEPARTMENT OF THE TREASURY

Agency Information Collection Activities; Proposed Collection; Comment Request; Emergency Rental Assistance Program (ERA2)

AGENCY: Office of Recovery Programs, U.S. Department of the Treasury.

ACTION: Notice of information collection; request for comment.

SUMMARY: The U.S. Department of the Treasury, as part of its continuing effort to reduce paperwork and respondent burden, invites the general public and other Federal agencies to take this opportunity to comment on this continuing information collection, as required by the Paperwork Reduction Act of 1995. The public is invited to submit comments on the collection(s) listed below.

DATES: Written comments must be received on or before January 26, 2023.

ADDRESSES: Send comments regarding the burden estimate, or any other aspect of the information collection, including suggestions for reducing the burden, to Melody Braswell, Treasury PRA Clearance Officer, 1750 Pennsylvania Ave. NW, Suite 8142, Washington, DC 20220, or email at PRA@treasury.gov. Copies of submissions may be obtained from Jeff Schroeder by emailing jeffrey.schroeder@treasury.gov or viewing the entire information collection request at www.reginfo.gov.

SUPPLEMENTARY INFORMATION: On March 11, 2021, the President signed the American Rescue Plan Act of 2021 (the “Act”) into law. The Act authorizes the Secretary of the Treasury to disburse $21.55 billion of Emergency Rental Assistance (ERA2) to States, the District of Columbia, U.S. Territories, and certain local governments with more than 200,000 residents (collectively, “grantees”) to provide financial assistance and housing stability services to eligible households. Beginning on October 1, 2022, eligible ERA2 grantees that have obligated 75% of the ERA2 funds allocated to them may also use their remaining unobligated funds on other affordable rental housing and eviction prevention activities, as defined by the Secretary, serving very low-income families.

Title: Emergency Rental Assistance Program (ERA2).

OMB Control Number: 1505-0270.

Type of Review: Revision a previously approved collection.

Quarterly Reporting

Description

All ERA2 grantees must submit quarterly reports to Treasury detailing their uses of funds to ensure their compliance with the ERA2 Award Terms, the Act, and other applicable requirements. To collect this information, Treasury developed ERA2 quarterly report forms, the accompanying bulk upload templates, and associated guidance. Grantees are required to submit the quarterly reports electronically via Treasury's portal. The current OMB control number for the ERA2 quarterly report forms will expire on December 30, 2022.

Treasury is requesting OMB's approval of additions to and an extension of the ERA2 quarterly report data collection forms. The proposed additions include new questions necessary to monitor the grantees' uses of ERA2 funds to support affordable rental housing and eviction prevention activities starting on October 1, 2022, as authorized by the Act. The remainder of the report, which has been previously approved by OMB, is unchanged.

All information collected through the quarterly reporting is crucial to Treasury's effective monitoring of the ERA2 grantees' compliance with the requirements of the ERA2 award.

Form: Interim Reports,¹ ERA2 Quarterly Reports, Bulk Upload Template, and Guidance.

¹ Treasury is not currently collecting interim reports but is seeking approval of the documents in the event that they become necessary again in the future. Accordingly, they are not accounted for in the hourly burden calculations.

Affected Public: States, Territories, and local governments who received ERA2 awards.

Estimated Number of Respondents: 376.

Frequency of Response: Quarterly.

Estimated Total Number of Annual Responses: 1,504.

Estimated Time per Response: 30 hours.

Estimated Total Annual Burden Hours: 45,120 hours.

Reallocation

Description

The Act requires Treasury to reallocate funds initially allocated, but not yet paid, to eligible grantees, according to a procedure established by Treasury. Pursuant to the reallocation procedure Treasury has established, Treasury identifies funds subject to reallocation on a quarterly basis and refers to them as “excess funds.” To identify the eligible grantees interested in receiving reallocated funds, Treasury solicits Request for Reallocation forms through its ERA2 program portal, which capture the amount of each grantee's request as well as information confirming that a requesting grantee meets certain eligibility requirements, including the statutory requirement that a grantee obligate at least 50% of its initial ERA2 allocation before receiving reallocated funds.

In addition to confirming grantees' eligibility to receive reallocated funds, the reallocation forms on Treasury's ERA2 portal allow Treasury to collect information needed to determine which grantees to prioritize in the distribution of reallocated funds. Treasury's prioritization calculation considers: whether potential recipient grantees are located in the same state as transferor grantees; potential recipient grantees' rate of expenditure; and potential recipient grantees' jurisdictional needs. Pursuant to Treasury's ERA2 program guidance, starting with reallocation based on data as of June 30, 2022 (known as the Quarter 2 Assessment), Treasury will also prioritize, among eligible grantees, those grantees that have expended non-ERA funds, including State and Local Fiscal Recovery Funds, for rental or utility assistance substantially similar to eligible uses under ERA1 ² or ERA2 since the enactment of the ERA1 statute on December 27, 2020, in an amount exceeding 20% of their initial ERA2 allocation. To receive this prioritization, a grantee must submit to Treasury a certification of, among other things, the amount of non-ERA funding expended on rental or utility assistance substantially similar to eligible uses under ERA1 or ERA2, the sources of these expenditures, and the number of households served. To implement this prioritization system for the Quarter 2 Assessment and subsequent reallocation cycles, Treasury has developed a form for its reallocation portal to collect information needed to confirm that a requesting eligible grantee is entitled to prioritization based on its non-ERA expenditures.

² “ERA1” refers to the Emergency Rental Assistance program authorized by the Consolidated Appropriations Act, 2021, Pub. L. 116-260, section 501, 134 Stat. 2069 (Dec. 27, 2020).

In addition to the above-described reallocation process, some grantees choose to voluntarily reallocate a portion of their ERA2 allocations to one or more eligible grantees. To that end, Treasury has also developed, within its reallocation portal, a standard form that grantees use to initiate voluntary reallocation. In accordance with statutory requirements, a grantee may transfer up to 60% of its initial ERA2 allocation.

OMB approved the usage of these various reallocation forms on June 16, 2022. Since then, Treasury has made de minimis changes accounting for the passage of time and other program developments, none of which substantively alter the forms.

Accordingly, the collection of the above-described information is crucial to the reallocation process, which is a central component of the ERA2 program.

Forms: Request for Voluntary Reallocation; Request for Reallocated Funds; Request for Reallocated Funds—Voluntary; Non-ERA Expenditures Report.

Affected Public: States, Territories and local governments who received ERA2 awards.

Estimated Number of Respondents: 482.

Frequency of Response: Once.

Estimated Total Number of Annual Responses: 982.

Estimated Time per Response: Varies from 10-60 minutes.

Estimated Total Annual Burden Hours: 524.4 hours.

Authority: 44 U.S.C. 3501 et seq.

Melody Braswell,
Treasury PRA Clearance Officer.

[FR Doc. 2022-28138 Filed 12-23-22; 8:45 am]

BILLING CODE 4810-25-P